SOCIAL SECURITY ADMINISTRATION

Statement of Organization, Functions of Delegations of Authority

This statement amends Part S of the Statement of the Organization, Functions and Delegations of Authority which covers the Social Security Administration (SSA). Chapter S4 covers the Deputy Commissioner for Systems. Notice is given that Subchapter S4H, the Office of Systems Requirements (OSR), is being deleted. Notice is further given that a new Subchapter S4P, the Office of Systems Analysis (OSA), is being established. The new material and changes are as follows:

Section S4.10 The Office of the Deputy Commissioner, Systems—(Organization)

Delete

F. The Office of Systems Requirements (S4H).

Establish

F. The Office of Systems Analysis (S4P).

Section S4.20 The Office of the Deputy Commissioner, Systems—(Functions)

Delete In Its Entirety

F. The Office of Systems Requirements (OSR) (S4H).

Establish

F. The Office of Systems Analysis (OSA) (S4P) directs, develops and coordinates information technology requirements for new systems and modifications to existing systems in direct support of SSA programs. It is responsible for long-range planning and analyses to define new and improved systems processes in support of agency requirements and maintains a comprehensive, updated and integrated set of system requirement specifications. The office directs validation of computer programs against user-defined requirements and performance criteria, and approves the resulting system for operational acceptance. It directs the development of procedures and instructions to support user needs in effective implementation of all systems. It determines automation solutions for user needs, develops software systems specifications, analyzes existing computer applications, prepares recommendations including costs and benefits of alternatives, tests and validates systems, documenting systems, accepting systems on behalf of SSA's user community and conducting post-installation evaluation. The office develops security standards and ensures implementation of the standards within OSA. It provides system support of the Agency's programmatic systems interactive validation environment, project management and control, resource management, ITS Budget/Five-Year Plan coordination, Agency Strategic Plan and workload scheduling.

Delete

Subchapter S4H, The Office of Systems Requirements in its entirety.

Establish

Subchapter S4P—Office of Systems Analysis

S4P.00 Mission

S4P.10 Organization

S4P.20 Functions

Section S4P.00 The Office of Systems Analysis—(Mission)

The Office of Systems Analysis (OSA) directs, develops and coordinates information technology requirements for new systems and modifications to existing systems in direct support of SSA programs. It is responsible for long-range planning and analyses to define new and improved systems processes in support of agency requirements and maintains a comprehensive, updated and integrated set of system requirement specifications. OSA directs validation of computer programs, which are part of SSA's large, integrated, programmatic systems against user-defined requirements and performance criteria, and approves the resulting system for operational acceptance. It directs the development of procedures and instructions to support user needs in effective implementation of all systems. OSA is responsible for several phases in the systems development life cycle. The responsibilities include determining automation solutions for user needs, developing software systems specifications, analyzing existing computer applications, preparing recommendations including costs and benefits of alternatives, testing and validating systems, documenting systems, accepting systems on behalf of SSA's user community and conducting post-installation evaluation. It develops security standards and ensures implementation of the standards within OSA. It directs the evaluation of the effect of proposed legislation, policies or regulations to determine the impact on SSA systems and develops information requirements and procedures as they relate to such legislation, regulations and SSA policy directives. It directs the coordination of user requirements with SSA central and regional operations to ensure the efficiency and effectiveness of program information needs and overall systems support. Based on input from users, OSA translates organizational information requirements and priorities into plans and, in coordination with other Office of Systems organizational components, develops SSA's annual automated data processing plans (and directs development and maintenance of the plans). OSA serves as primary contact and advocate for the SSA user community on issues concerning the development of systems requirements, functional specifications and supporting operational procedures and instructions. OSA provides system support for the Agency's programmatic systems interactive validation environment, project management and control, resource management, ITS Budget/Five-Year Plan coordination, Agency Strategic Plan and workload scheduling.

Section S4P.10 The Office of Systems Analysis—(Organization)

The Office of Systems Analysis (S4P), under the leadership of the Associate Commissioner for Systems Analysis, includes:

A. The Associate Commissioner for Systems Analysis (S4P).

B. The Deputy Associate Commissioner for Systems Analysis (S4P).

C. The Immediate Office of the Associate Commissioner for Systems Analysis (S4P).

D. The Division of Client, Enumeration and Exchanges (S4PA).

E. The Division of Disability (S4PB).

F. The Division of Earnings (S4PC).

G. The Division of Notices (S4PE).

H. The Division of Payments (S4PG).

I. The Division of Planning and Configuration Management (S4PH).

J. The Division of Retirement and Survivors Insurance (RSI) (S4PJ).

K. The Division of Security and Requirements Automation (S4PK).

L. The Division of Supplemental Security Income (SSI) (S4PL).

M. The Division of Validation Technology (S4PM).

Section S4P.20 The Office of Systems Analysis—(Functions)

A. The Associate Commissioner for Systems Analysis (S4P) is directly responsible to the Deputy Commissioner, Systems, for carrying out the OSA mission and providing general supervision to the major components of OSA.

B. The Deputy Associate Commissioner for Systems Analysis (S4P) assists the Associate Commissioner in carrying out his/her responsibilities and performs other duties as the Associated Commissioner my prescribe.

C. The Immediate Office of the Associate Commissioner for Systems Analysis (S4P) provides the Associate Commissioner and Deputy Associate Commissioner with staff assistance on the full range of their responsibilities.

D. Division of Client, Enumeration and Exchanges (S4PA).

1. Plans, analyzes, develops, tests, validates, implements and evaluates program data requirements, functional specifications, procedures, instructions and standards (including security and fraud detection) for data exchanges, enumeration and client records.

2. With the technical assistance of DVT, plans and conducts unit and system-wide functional validation tests of newly-developed systems and modifications of existing systems against user-defined requirements and performance criteria. Certifies that the changes are in conformance with functional specifications and with Agency regulations, policies, and procedures.

3. Participates in the development, maintenance and co-ordination of the overall approved SSA plans for fulfilling short-term and long-range programmatic system development (the Five-Year Plans) as they relate to Client, Enumeration and Data Exchanges. This includes determining, classifying and ranking systems needs of all SSA components, and recommending final priorities for approval.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for Client, Enumeration and Data Exchanges.

6. Evaluates legislative proposals, regulations and policy changes affecting Client, Enumeration and Data Exchanges. Reports on the impact to those processes as well as on the short-and long-range plans.

7. Intercedes on behalf of users in resolving system discrepancies and errors relating to the existing Client, Enumeration and Data Exchange process with other Office of Systems components. Establishes, corrects, maintains and verifies Social Security numbers and issues new or replacement cards.

8. Process death, prisoner and fugitive felon data, the Death Master File; the Integrated Client Database system; and programmatic queries and other software that access and display data from the SSA master files.

9. Provides database access to programmatic information, access to SSA main and sub menus, and telecommunications support.

E. Division of Disability (S4PB).

1. Plans, analyzes, develops, tests, validates, implements and evaluates programmatic information and data requirements, functional specifications, procedures, instructions and standards (including security and fraud detection) for the Disability program, including service to the State Disability Determination Service (DDS) offices.

2. With the technical assistance of DVT, plans and conducts unit and system-wide functional validation tests of newly-developed systems and modifications to existing systems against user-defined requirements and performance criteria. Certifies that the changes are in conformance with functional specifications and with Agency regulations, policies, and procedures.

3. Participates in the development, maintenance and co-ordination of the overall approved SSA plans for fulfilling short-term and long-range programmatic system development (the Five-year Plans) as they relate to Disability. This includes determining, classifying and ranking systems needs of all SSA components, and recommending final priorities for approval.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for Disability.

6. Evaluates legislative proposals, regulations and policy changes affecting Disability. Reports on the impact to those processes as well as on the short-and long-range plans.

7. Intercedes on behalf of users in resolving system discrepancies and errors relating to the existing Disability process with representatives of other Office of Systems components.

8. Coordinates user requirements with SSA central and field offices and Federal and State agencies to ensure the efficiency and effectiveness of program information needs and overall systems support.

9. Supports Individual State Disability Determination Service offices automated systems development by establishing national practices and contracts and optional local area software. The Division evaluates State Disability Determination Systems developing requests with the objective of integrating State efforts into overall SSA automation plans.

10. Resolves systems discrepancies and performance issues for all DDS offices, Federal and State. The State DDS systems interface with SSA central systems. The division is responsible for testing applications software that exchanges the required disability data between the offices involved.

F. Division of Earnings (S4PC).

1. Plans, analyzes, develops, tests, validates, implements and evaluates programmatic data requirements, functional specifications, procedures instructions and standards (including security and fraud detection) for reporting earnings data and for establishment, correction, maintenance and use of earnings and employer data. These functions include trust fund accounting information provided to the Department of the Treasury; reconciling disagreements and discrepancies related to earnings data; the establishment and maintenance of employer identification, classification and control information and the SSA/IRS reconciliation process. Functions also include providing certified earnings data to support other agency processes and reinstating earnings data from suspense.

2. With the technical assistance of DVT, plans and conducts unit and system-wide functional validation tests of newly-developed systems and modifications to existing systems against user-defined requirements and performance criteria. Certifies that the changes are in conformance with functional specifications and with Agency regulations, policies, and procedures.

3. Participates in the development, maintenance and co-ordination of the overall approved SSA plans for fulfilling short-term and long-range programmatic system development (the Five-year Plans) as they relate to Earnings. This includes determining, classifying and ranking systems needs of all SSA components, and recommending final priorities for approval.

4. Develops and maintains a comprehensive, updated and integrated set of system documentation and requirements specifications and validation tests of systems changes against user requirements and performance criteria and certifies that changes are in conformance with specifications for assigned areas of responsibility.

5. Performs requirement analyses, defining SSA-approved user needs and requirements for systems' services for Earnings.

6. Evaluates legislative proposals, regulations and policy changes affecting Earnings. Reports on the impact to those processes as well as on the short- and long-range plans.

7. Intercedes on behalf of users in resolving system discrepancies and errors relating to the existing Earnings process with representatives of other Office of Systems components.

8. Coordinates user requirements with SSA central and field offices and Federal and State agencies to ensure the efficiency and effectiveness of program information needs and overall systems support.

G. Division of Notices (S4PE).

1. Plans, analyzes, develops, tests, validates, implements and evaluates programmatic data requirements, functional specifications, procedures, instructions and standards (including security and fraud detection) in conformance with SSA's software engineering environment, for title II (RSDI), XVI (SSI), and VIII Notices.

2. With the technical assistance of DVT, plans and conducts unit and system-wide functional validation tests of newly-developed systems and modifications to existing systems against user-defined requirements and performance criteria. Certifies that the changes are in conformance with functional specifications and with Agency regulations, policies, and procedures.

3. Participate in the development, maintenance and co-ordination of the overall approved SSA plans for fulfilling short-term and long-range programmatic system development (the Five-year Plans) as they relate to Notices. This includes determining, classifying and ranking systems needs of all SSA components, and recommending final priorities for approval.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for Notices.

6. Evaluates legislative proposals, regulations and policy changes affecting Notices. Reports on the impact to those processes as well as on the short- and long-range plans.

7. Intercedes on behalf of users in resolving system discrepancies and errors relating to the existing Notice process with representatives of other Office of Systems components.

8. Coordinates user requirements with SSA central and field offices and Federal and State agencies to ensure the efficiency and effectiveness of program information needs and overall systems support.

9. Provides systems expertise and leadership in agency initiatives related to Plain Language, Non-English Speaking notices and Target Notice Architecture.

H. Division of Payments (S4PG).

1. Plans, analyzes, develops, tests, validates, implements and evaluates programmatic data requirements, functional specifications, procedures, instructions and standards (including security and fraud detection) for titles II, VIII and XVI Payments. This includes both direct deposits and checks; Debt Management (including overpayment, underpayment, misuse, fraud and civil suit actions); Representative Payee Processing and Accounting; Workload Controls (including the paperless process, claims, folders, and transactions); and benefit-related accounting operations.

2. With the technical assistance of DVT, plans and conducts unit and system-wide functional validation tests of newly-developed systems and modifications to existing systems against user-defined requirements and performance criteria. Certifies that the changes are in conformance with functional specifications and with Agency regulations, policies, and procedures.

3. Participates in the development, maintenance and coordination of the overall approved SSA plans for fulfilling short-term and long-range programmatic system development (the Five-year Plans) as they relate to payments. This includes determining, classifying and ranking systems needs of all SSA components, and recommending final priorities for approval.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for payments.

6. Evaluates legislative proposals, regulations and policy changes affecting payments. Reports on the impact to those processes as well as on the short- and long-range plans.

7. Intercedes on behalf of users in resolving system discrepancies and errors relating to the existing Payment, Debt Management, Representative Payee and Workload Control processes with representatives of other Office of Systems components.

8. Coordinates user requirements with SSA central and field offices and Federal and State agencies to ensure the efficiency and effectiveness of program information needs and overall systems support.

I. Division of Planning and Configuration Management (S4PH).

1. Coordinates on Software Process Improvement (SPI) and metrics activities. Participates in developing DCS policy, procedures and training for SPI and metrics. Provides training and guidance to project managers to implement process improvement practices.

2. Works with the customer community and Systems components to produce the 5-Year Plan that prioritizes workloads and developmental efforts that the Systems component works on. This division is responsible for coordinating this activity for SSA, including the support activity for the Customer Targeted Workload. In addition, this Division is responsible for coordinating the development of requirements, validation and data storage for the DCS 5-Year data in the 5-Year System.

3. Provides standards, procedures, systems support and technical assistance to OSA project managers to facilitate preparation of work plans. Directs review of project work plans to ensure completeness, compatibility with standards and managerial directives, and requirements and conformity to the 5-Year Plan, Configuration Control Board (CCB) recommendations and other management decisions. Coordinates systems-wide approval of new and modified plans, and ensures that the differences and conflicts among components are resolved. Provides for monitoring progress of work projects against work plans and reporting status to systems management.

4. With approval of systems management, sets standards for developing, maintaining and implementing configuration control and systems change control processes. Directs review and control of requests for modification of SSA systems and functional requirements. Ensures that all systems change requests are in accordance with the 5-Year Plan process, conform to CCB decisions and correspond with the approved project work plans. For each change, ensures that all necessary concurrence and approvals are obtained through the Systems Life Cycle.

5. Develops, analyzes, operates, validates and maintains the Management Support System (MSS). The MSS provides automated support to OSA and DCS planning, monitoring, project and resource management functions. Analyzes management requirements and needs of other OSA components, and develops appropriate systems support capability. Works with OSPI, OIM and contractors (as well as other involved components) to develop, maintain and implement systems' management support and control processes. Ensures that the OSA management support systems and processes are integrated systems-wide. Participates in the development, design and validation effort of the Systems Release Certification online System (SRCOL) on the Intranet WEB. This division ensures that all required Systems lifecycle documentation (from requirements through systems certification) is maintained and available.

6. Monitors DCS workloads, resource estimates and resource usage and provides comprehensive resource information to DCS management to support workload priority decisions. Directs resource estimation and reporting processes for OSA.

7. Coordinates Modernized Systems Operations Manual (MSOM) activities including Version Directory Management, Indexing, Scheduling and Transmittal release and the preparation of MSOM on CD-ROM. Also, analyzes, develops requirements and validates software changes for the MSOM ORACLE-based authoring system.

8. This division is responsible for coordinating the evaluation of legislative proposals affecting SSA programs for their impact on SSA's programmatic and administrative systems. Monitors systems changes required to implement legislation. Acts as the DCS liaison with other SSA components on legislation. Coordinates the evaluation of legislative proposals to assess impact on DCS resources and scheduled activities. Establishes project management activities for enacted legislation, and monitors the developmental activity through implementation.

9. Responsible for the development of policies, procedures and standards for specific OSA phases of the life cycle development process and development of methods to assure the quality of these products.

10. Serves as the focal point for coordinating the development of all OSA standards and procedures.

11. Responsible for providing program expertise and process management direction and oversight for cross-cutting segments for all OSA systems initiatives, legislative initiatives or projects involving the initiation, interpretation and/or the implementation of programmatic systems.

J. Division of Retirement and Survivors Insurance (RSI) (S4PJ).

1. Plans, analyzes, develops, tests, validates, implements and evaluates programmatic data requirements, functional specifications, procedures, instructions and standards (including security and fraud detection), for title II (RSDI) Initial Claims and Post-entitlement systems processing and for title XVIII, Medicare enrollment, withdrawal and termination actions. Coordinates such processes with the Health Care Financing Administration. This includes work on the Master Beneficiary Record (MBR) update operations, including the annual cost-of-living adjustment (BRI), and benefit taxation records.

2. With the technical assistance of DVT, plans and conducts unit and system-wide functional validation tests of newly-developed systems and modifications to existing systems against user-defined requirements and performance criteria. Certifies that the changes are in conformance with functional specifications and with Agency regulations, policies, and procedures.

3. Participates in the development, maintenance and co-ordination of the overall approved SSA plans for fulfilling short-term and long-range programmatic system development (the Five-year Plans) as they relate to title II Initial Claims and Post-entitlement/Medicare systems. This includes determining, classifying and ranking systems needs of all SSA components, and recommending final priorities for approval.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for title II Initial Claims and Post-entitlement systems and Medicare systems.

6. Evaluates legislative proposals, regulations, and policy changes affecting the title II Initial Claims and Post-entitlement systems processes, and title XVIII Medicare systems processes. Reports on the impact to those processes as well as on short-term and long-range plans.

7. Intercedes on behalf of users in resolving system discrepancies and errors relating to the existing title II Initial Claims and Post-entitlement process, or Medicare systems processes, with representatives of other Office of Systems components.

8. Coordinates user requirements with SSA central and field offices and Federal and State agencies to ensure the efficiency and effectiveness of program information needs and overall systems support.

K. Division of Security and Requirements Automation (S4PK).

1. Provides consultations and makes recommendations on security, audit, internal control and integrity review issues for all SSA programmatic systems, and ensures the implementation of security standards within all areas of OSA's functional responsibilities. Also, develops methods to improve control and security features based on established standards and cost/benefit considerations.

2. Leads and/or coordinates reviews of programmatic processes and systems to identify weaknesses in control, auditability and security features, makes recommendations for improvement, and coordinates activities with other SSA components to ensure that approved recommendations are implemented.

3. Provides the capability for and performs static testing of all programmatic systems in support of SSA and oversight Agency requirements, as well as in support of OSA control and audit process reviews.

4. Develops, executes and validates software to provide information to security officers and investigators throughout the Agency in support of investigations of fraud, waste and abuse.

5. Manages the security access control process to access and interface with SSA's programmatic systems.

6. Performs requirements analyses and definition, conveys SSA approved user needs in the form of specifications in the area of integrity review and audit data collection, conversion and reporting to OSDD for the development of systems designs for integration of SSA programmatic systems.

7. Performs requirement analyses and definition of SSA approved security access control requirements and conveys the specifications to the appropriate component for an update of the access control apparatus.

8. Performs security, functional security, access control, Individuals of Extraordinary National Prominence and Social Security Number Block validations, and integrity review and audit trail data collection, conversion and reporting validations to ensure that the requirements have been properly integrated within SSA's programmatic systems.

9. Develops requirements for and validates software changes to the TOP-SECRET Administration process.

10. Manages the Security 5-Year Plan.

11. Implements and supports the appropriate standards and procedures for functional requirements definition and analysis stages through the use of Computer-Aided Software Engineering (CASE) tools.

12. Supports the procurement, training, use and integration of automated tools and equipment in support of OSA's development and maintenance of FRs, documents and data models for SSA's programmatic systems.

13. Defines, designs, develops, validates and implements computer, programs and automated processes which support the development and maintenance of integrated programmatic data processing systems.

14. Develops, maintains, and provides technical support of hardware, software and all networking functions within OSA and provides technical assistance to other components within DCS that interface with OSA.

15. Supports various platforms OSA uses in the development and validation of software that run on SSA's Intelligent Work Station/Local Area Network (IWS/LAN) to support its field offices nationwide.

16. Develops strategies and guidelines for base lining automated functional requirement databases.

17. Responsible for the development of proposals and recommendations for new software engineering methods for use at OSA, based on extensive research into various methodologies utilized by other data processing installations.

L. Division of Supplemental Security Income (SSI) (S4PL).

1. Plans, analyzes, develops, tests, validates, implements and evaluates programmatic data requirements, functional specifications, procedures, instructions and standards (including security and fraud detection) for title XVI (SSI) processes, title VIII and redetermination operations. This includes updates to the Supplemental Security Income Record (SSR) and the annual cost-of-living adjustment (COLA).

2. With the technical assistance of DVT, plans and conducts unit and system-wide functional validation tests of newly-developed systems and modifications to existing systems against user-defined requirements and performance criteria. Certifies that the changes are in conformance with functional specifications and with Agency regulations, policies, and procedures.

3. Participates in the development, maintenance and coordination of the overall approved SSA plans for fulfilling short-term and long-range programmatic systems documentation and requirement specifications and validation tests of systems changes against user requirements and performance criteria and certifies that changes are in conformance with specifications for assigned areas of responsibility.

4. Develops and maintains a comprehensive, updated and integrated set of system documentation and requirements specifications and validation tests of systems changes against user requirements and performance criteria and certifies that changes are in conformance with specifications for assigned areas of responsibility.

5. Performs requirement analyses, defining SSA-approved user needs and requirements for automated data processing services for SSI initial claims and post-eligibility operations, computation and record balancing operations, and redeterminations.

6. Evaluates legislative proposals, regulations and policy changes affecting SSI processes. Reports on the impact to those processes as well as on the short- and long-range plans.

7. Intercedes on behalf of users in resolving system discrepancies and errors relating to the existing SSI process with representatives of other Office of Systems components.

8. Coordinates user requirements with SSA central and field offices and Federal and State agencies to ensure the efficiency and effectiveness of program information needs and overall systems support.

M. Division of Validation Technology (S4PM).

1. Provides test-engineering services for systems-level functional testing in the Office of Systems. The Division:

2. Designs, develops, implements, and maintains test automation software, automated test methods and techniques, and procedures, test files, test databases, and tester productivity tools used in the systems-level functional, integration, acceptance and usability testing of SSA's programmatic, administrative, and management information systems.

3. Builds test systems that simulate the target production system within the parameters of SSA's Software Engineering Facility using in-house and commercially available software development tools and products.

4. Controls and executes systems-level functional tests of programmatic, administrative, and management information systems; ensures that the correct software versions are under test and provides appropriate test output for evaluation and systems acceptance and certification.

5. Develops test procedure specifications and test design specifications for use in systems-level functional testing.

6. Performs test case design for regression testing of programmatic systems.

7. Performs software quality assurance and quality control regarding test coverage and test risk analysis as they relate to management decisions to release new or modified software to the production environment.

8. Develops standards of functional testing and software validation for the Office of Systems.

9. Develops and manages the environment in which functional testing occurs.

10. Defines standards for test planning and participates, along with other Office of Systems components, in the development of test plans for systems-level functional testing.

11. Serves as the Stage Manager for the Software Evaluation Stage of SSA's Software Engineering Environment and Systems Development Life Cycle.

Dated: May 7, 2001.
Larry G. Massanari,
Acting Commissioner of Social Security.

[FR Doc. 01-12608 Filed 5-17-01; 8:45 am]

BILLING CODE 4191-02-M